DEPARTMENT OF LABOR

Pension and Welfare Benefits Administration

[Exemption Application No. D-10888]

Withdrawal of Notice of Proposed Exemption Involving the Joliet Medical Group, Ltd. Employees Retirement Plan & Trust (the Plan); Located in Joliet, IL

In the Federal Register dated February 15, 2001 (66 FR 10526), the Department of Labor (the Department) published a notice of proposed exemption from the prohibited transaction restrictions of the Employee Retirement Income Security Act of 1974 and from certain taxes imposed by the Internal Revenue Code of 1986. The notice of proposed exemption, for which retroactive relief had been requested, would allow the past and continued leasing of a medical clinic located at 2100 Glenwood Ave., Joliet, Illinois, from the Plan to the Joliet Medical Group, Ltd.

The Department has hereby determined to withdraw the notice of proposed exemption.

Signed at Washington, DC, this 29th day of March, 2001.
Ivan L. Strasfeld,
Director of Exemption Determinations, Pension and Welfare Benefits Administration, Department of Labor.

[FR Doc. 01-8154 Filed 4-2-01; 8:45 am]

BILLING CODE 4510-29-P